Title 3—

The President

Executive Order 13205 of March 9, 2001

Establishing an Emergency Board To Investigate a Dispute Between Northwest Airlines, Inc., and Its Employees Represented by the Aircraft Mechanics Fraternal Association

A dispute exists between Northwest Airlines, Inc., and its employees represented by the Aircraft Mechanics Fraternal Association.

The dispute has not heretofore been adjusted under the provisions of the Railway Labor Act, as amended (45 U.S.C. 151-188) (the “Act”).

In the judgment of the National Mediation Board, this dispute threatens substantially to interrupt interstate commerce to a degree that would deprive sections of the country of essential transportation service.

NOW, THEREFORE, by the authority vested in me as President by the Constitution and the laws of the United States, including sections 10 and 201 of the Act (45 U.S.C. 160 and 181), it is hereby ordered as follows:

Section 1. Establishment of Emergency Board (“Board”). There is established, effective March 12, 2001, a Board of three members to be appointed by the President to investigate this dispute. No member shall be pecuniarily or otherwise interested in any organization of airline employees or any air carrier. The Board shall perform its functions subject to the availability of funds.

Sec. 2. Report. The Board shall report to the President with respect to this dispute within 30 days of its creation.

Sec. 3. Maintaining Conditions. As provided by section 10 of the Act, from the date of the creation of the Board and for 30 days after the Board has submitted its report to the President, no change in the conditions out of which the dispute arose shall be made by the parties to the controversy, except by agreement of the parties.

Sec. 4. Record Maintenance. The records and files of the Board are records of the Office of the President and upon the Board's termination shall be maintained in the physical custody of the National Mediation Board.

Sec. 5. Expiration. The Board shall terminate upon the submission of the report provided for in sections 2 and 3 of this order.

B

THE WHITE HOUSE,

March 9, 2001.

[FR Doc. 01-6558

Filed 3-13-01; 11:57 am]

Billing code 3195-01-P